FEDERAL RESERVE SYSTEM

Proposed Agency Information Collection Activities; Comment Request

Correction

In notice document E8-17716 beginning on page 45222 in the issue of Monday, August 4, 2008, make the following correction:

On page 45223, in the first column, under DATES:, in the second line, “September 30, 2008” should read “October 3, 2008”.

[FR Doc. Z8-17716 Filed 8-21-08; 8:45 am]

BILLING CODE 1505-01-D